ENVIRONMENTAL PROTECTION AGENCY

[EPA-HQ-OAR-2016-0027; FRL—OMS-2024-10]

Agency Information Collection Activities; Submission to the Office of Management and Budget for Review and Approval; Comment Request; On-Highway Motorcycle Certification and Compliance Program

AGENCY: Environmental Protection Agency (EPA).

ACTION: Notice.

SUMMARY: The Environmental Protection Agency (EPA) has submitted an information collection request (ICR), “On-Highway Motorcycle Certification and Compliance Program” to the Office of Management and Budget (OMB) for review and approval in accordance with the Paperwork Reduction Act. This is a proposed extension of the ICR, which is currently approved through October 31, 2023. Public comments were previously requested via the Federal Register on July 31, 2023, during a 60-day comment period. This notice allows for an additional 30 days for public comments.

DATES: Comments may be submitted on or before November 30, 2023.

ADDRESSES: Submit your comments, referencing Docket ID No. EPA-HQ-OAR-2016-0027, to EPA online using www.regulations.gov (our preferred method), by email to a-and-r-Docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Julian Davis, Environmental Protection Agency, 2000 Traverwood, Ann Arbor MI 48105; telephone number: (734) 214-4029; fax number: (734) 214-4869; email address: davis.julian@epa.gov.

SUPPLEMENTARY INFORMATION: This is a proposed extension of the ICR (EPA ICR Number 2535.03, OMB Control Number 2060-0710), which is currently approved through October 31, 2023. An agency may not conduct or sponsor and a person is not required to respond to a collection of information unless it displays a currently valid OMB control number.

Public comments were previously requested via the Federal Register on July 31, 2023 during a 60-day comment period (88 FR 49460). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Under the Clean Air Act (42 U.S.C. 7521 et seq.) manufacturers and importers of on-highway motorcycles must have a certificate of conformity issued by EPA covering any vehicle they intend to offer for sale in the United States. A certificate of conformity represents that the respective vehicle conforms to all applicable emissions requirements. In issuing a certificate of conformity, EPA reviews vehicle information and emissions test data to determine if the required testing has been performed and the required emissions levels have been demonstrated. After a certificate of conformity has been issued, the Agency may request additional information to verify that the product continues to meet its certified emissions standards throughout its useful life.

Form Numbers: Highway Motorcycle HC+NOx Average Exhaust Emissions Model Year Report (5900-339); Manufacturer Production Report for Engine/Equipment Manufacturers—Heavy—Duty, Nonroad, and Highway Motorcycles (5900-90); List of Emissions-Related Components (5900-653); Catalyst Information (5900-464); AECD Reporting Template (5900-654)

Respondents/affected entities: Entities potentially affected by this action are on-highway motorcycle manufacturers and importers.

Respondent's obligation to respond: Mandatory (40 CFR part 86).

Estimated number of respondents: 95 (total).

Frequency of response: Annual, unless otherwise specified under 40 CFR part 86, subpart E.

Total estimated burden: 5832 hours (per year). Burden is defined at 5 CFR 1320.03(b).

Total estimated cost: $1,124,869 (per year), which includes $31,998 annualized capital and $342,565 operation & maintenance costs.

Changes in Estimates: There is an increase of 379 hours in the total estimated respondent burden but a decrease of $63,760 in the total estimated respondent cost compared with the ICR currently approved by OMB. This increase in hours but decrease in total estimated cost is primarily due to the inclusion of electric motorcycle manufacturers who must certify their engine families but are not subject to exhaust or evaporative emissions testing requirements.

Courtney Kerwin,
Director, Regulatory Support Division.

[FR Doc. 2023-24107 Filed 10-30-23; 8:45 am]

BILLING CODE 6560-50-P